DEPARTMENT OF TRANSPORTATION

Federal Railroad Administration

[Docket Number FRA-2014-0048]

Petition for Waiver of Compliance

Under part 211 of title 49 Code of Federal Regulations (CFR), this document provides the public notice that on September 13, 2019, Union Pacific Railroad Company (UP) petitioned the Federal Railroad Administration (FRA) to renew its waiver of compliance from certain provisions of the Federal railroad safety regulations contained at 49 CFR part 232, Brake System Safety Standards for Freight and Other Non-Passenger Trains and Equipment, End-of-Train Devices; 49 CFR part 229, Railroad Locomotive Safety Standards; and 49 CFR part 215, Railroad Freight Car Safety Standards. FRA assigned the petition Docket Number FRA-2014-0048.

Specifically, UP seeks relief from 49 CFR 232.205—Class I brake test—initial terminal inspection, section 229.21—Daily inspection, and part 215—Freight Car Standards, to permit movement from the Ferrocarriles Nacionales de Mexico interchange point at International Yard on the Lordsburg Subdivision in El Paso, Texas, to both UP's Dallas Street Yard for westbound traffic, a distance of 2.8 miles, and to UP's Alfalfa Yard for eastbound traffic, a distance of 7 miles.

Further, UP requests relief from provisions of § 174.59—Marking and placarding of rail cars. UP states that given continued compliance with Conditions 6 and 13 of this waiver, any necessary corrective actions required in accordance with § 172.504—Placarding, would be addressed at the Dallas Street and/or the Alfalfa Yards in conjunction with a part 215 inspection, as stipulated in Conditions 8 and 14 of the present waiver.

UP also requests to modify existing waiver condition language (Conditions 3, 4, 10, and 11) to be consistent with other UP southern border crossing waivers. Also for consistency purposes, UP requests adding two conditions that are in such other waivers, regarding a quarterly meeting and the capability of putting the train into emergency.

UP explains it has been operating under the original requirements set forth in this waiver since March 2015 and has found no adverse mechanical effect on operational safety. There have been no mechanical incidents in the movement from the International Bridge to the Dallas Street or Alfalfa Yards to date, inclusive of 2,945 trains interchanged northbound, involving no fewer than 180,700 freight cars.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by January 17, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to http://www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2019-27251 Filed 12-17-19; 8:45 am]

BILLING CODE 4910-06-P